NATIONAL AERONAUTICS AND SPACE ADMINISTRATION

[Notice 11-098]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held for the purpose of soliciting, from the scientific community and other persons scientific, and technical information relevant to program planning.

DATES: Wednesday, November 2, 2011, 8:30 a.m. to 5 p.m., and Thursday, November 3, 2011, 8:30 a.m. to 4 p.m., Local Time.

ADDRESSES: NASA Headquarters, 300 E Street, SW., Room 6H46, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting is also available telephonically and by WebEx. Any interested person may call the USA toll free conference call number 888-324-3907, pass code PSS, to participate in this meeting by telephone. The WebEx link is https://nasa.webex.com, meeting number on November 2 is 991 967 440, and password PSS@Nov2; the meeting number on November 3 is 996 034 764, and password PSS@Nov3. The agenda for the meeting includes the following topics:

—Status of Impacts on the Planetary Science Division

—Status of Joint NASA-European Space Agency Mars Program

—Europa Jupiter System Mission Descope Options

—Status of European Space Agency JUpitor ICy moon Explorer Potential Mission

—Status of Planetary Research and Analysis Program

—Status of Planetary Science Subcommittee “Assessment” Report and Recommendations to Planetary Science Division

—Assessment Group Reports

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: full name; gender; date/place of birth; citizenship; visa/green card information (number, type, expiration date); passport information (number, country, expiration date); employer/affiliation information (name of institution, address, country, telephone); title/position of attendee. To expedite admittance, attendees with U.S. citizenship can provide identifying information 3 working days in advance by contacting Marian Norris via e-mail at mnorris@nasa.gov or by telephone at (202) 358-4452.

October 13, 2011.
P. Diane Rausch,
Advisory Committee Management Officer, National Aeronautics and Space Administration and Space Administration.

[FR Doc. 2011-27060 Filed 10-17-11; 8:45 am]

BILLING CODE 7510-13-P